DEPARTMENT OF HOMELAND SECURITY

U.S. Citizenship and Immigration Services

[OMB Control Number 1615-0047]

Agency Information Collection Activities: Employment Eligibility Verification, Form I-9, OMB Control No. 1615-0047; Correction

ACTION: 30-Day Notice of Information Collection Under Review; Correction.

On August 22, 2012 the Department of Homeland Security, U.S. Citizenship and Immigration Services (USCIS) published a 30-day Notice of Information Collection Under Review (30-day notice) in the Federal Register at 77 FR 50710, requesting public comments in connection with revisions to the Employment Eligibility Verification form (Form I-9) being submitted to the Office of Management and Budget (OMB) for review and clearance in accordance with the Paperwork Reduction Act of 1995.

In the 30-day notice, USCIS inadvertently did not indicate that comments in connection with that notice should be directed to the OMB USCIS Desk Officer. USCIS is now correcting this error. Written comments and/or suggestions regarding the item(s) contained in the 30-day notice published in the Federal Register on August 22, 2012 at 77 FR 50710, especially regarding the estimated public burden and associated response time, should be directed to DHS, and to the Office of Information and Regulatory Affairs, OMB, USCIS Desk Officer. Comments may be submitted to: DHS, USCIS, Office of Policy and Strategy, Chief, Regulatory Coordination Division, 20 Massachusetts Avenue NW., Washington, DC 20529-2020. Comments may also be submitted to DHS via email at uscisfrcomment@dhs.gov, to the OMB USCIS Desk Officer via facsimile at 202-395-5806 or via email at oira_submission@omb.eop.gov, and via the Federal eRulemaking Portal Web site at http://www.Regulations.gov under e-Docket ID number USCIS-2006-2008.

When submitting comments by email, please make sure to add OMB Control Number 1615-0047 in the subject box.

Regardless of the method used for submitting comments or material, all submissions will be posted, without change, to the Federal eRulemaking Portal at http://www.Regulations.gov, and will include any personal information you provide. Therefore, submitting this information makes it public. You may wish to consider limiting the amount of personal information that you provide in any voluntary submission you make to DHS. DHS may withhold information provided in comments for public viewing that it determines may impact the privacy of an individual or is offensive. For additional information please read the Privacy Act notice that is available via the link in the footer of http://www.Regulations.gov.

To ensure that the public has sufficient opportunity to comment on this information collection, USCIS is extending the public comment period closing date from Friday, September 21, 2012 to Thursday, September 27, 2012.

Dated: September 4, 2012.
Laura Dawkins,
Chief Regulatory Coordinator, Regulatory Coordination Division, Office of Policy and Strategy, U.S. Citizenship and Immigration Services, Department of Homeland Security.

[FR Doc. 2012-22138 Filed 9-7-12; 8:45 am]

BILLING CODE 9111-97-P